INTERNATIONAL TRADE COMMISSION

[USITC SE-13-025]

Sunshine Act Meeting Notice

AGENCY HOLDING THE MEETING: United States International Trade Commission.

TIME AND DATE: November 1, 2013 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-502 and 731-TA-1127 and 1128 (Preliminary)(Steel Concrete Reinforcing Bar from Mexico and Turkey). The Commission is currently scheduled to complete and file its determinations on or before November 6, 2013; Commissioners' opinions will be issued on November 14, 2013.

5. Outstanding action jackets: none

In accordance with Commission policy, subject matter listed above, not disposed of at the scheduled meeting, may be carried over to the agenda of the following meeting.

Issued: October 25, 2013
By order of the Commission.
William R. Bishop,
Supervisory Hearings and Information Officer.

[FR Doc. 2013-25722 Filed 10-25-13; 4:15 pm]

BILLING CODE 7020-02-P